DEPARTMENT OF TRANSPORTATION

Federal Aviation Administration

14 CFR Part 71

[Docket No. FAA-2008-0003; Airspace Docket No. 08-ASW-1]

Amendment of Class E Airspace; Lexington, OK

AGENCY: Federal Aviation Administration (FAA), DOT.

ACTION: Direct final rule; confirmation of effective date, correction.

SUMMARY: This action confirms the effective date and makes a correction to the direct final rule that establishes Class E airspace at Muldrow Army Heliport, Lexington, OK, published in the Federal Register February 15, 2008 (73 FR 8795) Docket No. FAA-2008-0003. In the airspace description of the rule, the geographic coordinates were incorrect, and reference to Notice to Airmen and Airport/Facility Directory should be removed. This action corrects those errors.

DATES: Effective Dates: 0901 UTC April 10, 2008. The Director of the Federal Register approves this incorporation by reference action under Title 1, Code of Federal Regulations, part 51, subject to the annual revision of FAA Order 7400.9 and publication of conforming amendments.

FOR FURTHER INFORMATION CONTACT: Gary Mallett, Central Service Center, System Support Group, Federal Aviation Administration, Southwest Region, 2601 Meacham Blvd., Fort Worth, TX 76193-0530; telephone (817) 222-4949.

SUPPLEMENTARY INFORMATION:

History

The FAA published a direct final rule with request for comments in the Federal Register February 15, 2008, (73 FR 8795), Docket No. FAA-2008-0003. Subsequent to publication, the FAA found that the geographic coordinates for the Heliport were incorrect, and the sentence referencing the Notice to Airmen and Airport/Facility Directory should not have been included in the airspace description of this action.

The FAA uses the direct final rule procedure for non-controversial rules where the FAA believes that there will be no adverse public comment. This direct final rule advised the public that no adverse comments were anticipated, and that unless a written adverse comment, or a written notice of intent to submit an adverse comment, was received within the comment period, the regulation would become effective on April 10, 2008. No adverse comments were received; thus, this notice confirms that the direct final rule will become effective on this date.

Correction

In the Federal Register dated February 15, 2008, in Federal Register Docket No. FAA-2008-0003, on page 8796, column 2, line 31, correct to read:

(Lat. 35°01′00″ N., long. 97°14′01″ W.

On page 8796, column 2, line 39, remove the following:

“This Class E5 airspace is effective during specific dates and times established in advance by Notice to Airmen. The effective date and time will thereafter be continuously published in the Airport/Facility Directory.”

* * * * *

Issued in Fort Worth, TX on April 8, 2008.
Donald R. Smith,
Manager, System Support Group, ATO Central Service Center.

[FR Doc. 08-1131 Filed 4-10-08; 4:30 pm]

BILLING CODE 4910-13-P